FEDERAL COMMUNICATIONS COMMISSION

47 CFR Part 73

[MB Docket No. 05-142; RM-11220; DA 17-124]

Radio Broadcasting Services; Roma and San Isidro, Texas

AGENCY: Federal Communications Commission.

ACTION: Final rule.

SUMMARY: At the request of La Voz Latina (LVL) and Charles Crawford (Crawford), respectively, the Audio Division amends the FM Table of Allotments, by allotting Channel 278A at San Isidro, Texas, and deleting Channel 278A at Roma, Texas. Channel 278A at San Isidro, Texas, will be the community's second local service. The Audio Division, therefore, grants both LVL's counterproposal and Crawford's “Withdrawal of Expression of Interest.” A staff engineering analysis indicates Channel 278A can be allotted to San Isidro consistent with the minimum distance separation requirements of the Commission's rules with a site restriction 6 kilometers west of the community. The reference coordinates are 26-42-15 NL and 98-29-48 WL.

DATES: Effective March 20, 2017.

FOR FURTHER INFORMATION CONTACT: Adrienne Y. Denysyk, Media Bureau, (202) 418-2700.

SUPPLEMENTARY INFORMATION: This is a synopsis of the Commission's Memorandum Report and Order, MB Docket No. 05-142, adopted February 2, 2017, and released February 3, 2017. The full text of this Commission decision is available for inspection and copying during normal business hours in the FCC's Reference Information Center at Portals II, CY-A257, 445 12th Street SW., Washington, DC 20554. The full text is also available online at http://apps.fcc.gov/ecfs/. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

2. Section 73.202(b), the table is amended under Texas, by removing Roma, Channel 278A and by adding an entry for San Isidro in alphabetical order to read as follows:

§ 73.202 Table of Allotments.

* * * * *

(b) * * *

| Channel No.
* * * * *
Texas
* * * * *
San Isidro | 278A
* * * * *

* * * * *

[FR Doc. 2017-03130 Filed 2-15-17; 8:45 am]

BILLING CODE 6712-01-P